DEPARTMENT OF THE INTERIOR

Bureau of Land Management

[BLM_WY_FRN_MO4500178570]

Notice of Availability of the Proposed Resource Management Plan Amendment and Final Supplemental Environmental Impact Statement for the Buffalo Field Office, Wyoming

AGENCY: Bureau of Land Management, Interior.

ACTION: Notice of availability.

SUMMARY: In compliance with the National Environmental Policy Act of 1969, as amended (NEPA), and the Federal Land Policy and Management Act of 1976, as amended (FLMPA), the Bureau of Land Management (BLM) has prepared a Proposed Resource Management Plan (RMP) Amendment and Final Supplemental Environmental Impact Statement (EIS) for federal coal managed by the Buffalo Field Office and by this notice is announcing the opportunity to protest the Proposed RMP Amendment.

DATES: The BLM Director will consider protests to the Proposed RMP Amendment. Protests must be postmarked or electronically submitted on the BLM's ePlanning site within 30 days after the Environmental Protection Agency's (EPA) publication of a Notice of Availability (NOA) of the Proposed RMP Amendment and Final EIS in the Federal Register. The EPA usually publishes NOAs on Fridays.

ADDRESSES: The Proposed RMP Amendment and Final Supplemental EIS are available for review on the BLM ePlanning project website at https://eplanning.blm.gov/eplanning-ui/project/2021239/510.

Instructions for filing a protest on the Proposed RMP Amendment can be found at https://www.blm.gov/programs/planning-and-nepa/public-participation/filing-a-plan-protest and at 43 CFR 1610.5-2. All protests must be submitted in writing and mailed to one of the following by any one of the following methods:

• Website: https://eplanning.blm.gov/eplanning-ui/project/2021239/510.

• Regular and Overnight Mail: BLM Director, Attention: Protest Coordinator (HQ210), Denver Federal Center, Building 40 (Door W-4), Lakewood, CO 80215.

FOR FURTHER INFORMATION CONTACT: Thomas Bills, Project Manager, telephone (307) 684-1133; or at the address BLM Buffalo Field Office, 1425 Fort Street, Buffalo WY 82834; email tbills@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM prepared the Proposed Plan Amendment and Final Supplemental EIS to address a United States District Court for the District of Montana order (Western Organization of Resource Councils, et al. v. BLM; CV 00076-GF-BMM; 8/3/2022). The Final Supplemental EIS provides additional land use planning level analysis that considers no-leasing and limited coal leasing alternatives; discloses the public health impacts, both climate and non-climate, of burning fossil fuels (coal, oil, and gas); and completes new coal screens in accordance with 43 CFR 3420.1-4 to determine the lands to be made available for further consideration for coal leasing in the planning area.

The Buffalo planning area is located in Campbell, Johnson, and Sheridan Counties, Wyoming. The Coal Development Potential Area is located within Campbell County, Wyoming, and encompasses approximately 48 billion short tons of recoverable BLM-administered Federal coal.

The BLM analyzed three alternatives in detail, including the No Action Alternative and two alternatives that vary the amount of BLM-administered Federal coal authorized to be available for leasing. The alternatives include:

• Alternative A (the No Leasing Alternative): the Coal Development Potential Area would be unavailable for leasing;

• Alternative B (the No Action Alternative): approximately 48.0 billion short tons of recoverable BLM-administered coal within the Coal Development Potential Area established in the 2019 RMP Amendment and Final Supplemental EIS would be available for further consideration of leasing; and

• Alternative C: a reduced level of coal (1.24 billion short tons of recoverable BLM-administered coal) would be available for leasing within the Coal Development Potential Area.

The BLM further considered three additional alternatives but dismissed them from detailed analysis, as explained in the Proposed RMP Amendment and Final Supplemental EIS.

The BLM selected Alternative A, the No Leasing Alternative, as the proposed plan for allocating BLM administered coal; under this alternative, no BLM administered coal would be available for leasing within the Buffalo Field Office planning area. The proposed plan does not affect the area with coal development potential or the area determined to be suitable for surface coal mining. Collectively, the mines have sufficient federal coal leased to meet forecasted production levels into 2041. The remaining leased coal volume provides time to advance commercial scale carbon capture and non-thermal coal use technologies during the planning period.

The BLM published a notice of availability for the Draft Supplemental EIS and Potential RMP Amendment in the Federal Register on May 8, 2023, which initiated a 90-day comment period (88 FR 29691). On May 31, the BLM hosted a public meeting in Gillette, Wyoming, to present the Draft Supplemental EIS and RMP Amendment to the public and solicit comments. The BLM also hosted an on-line public meeting on June 5, 2023.

During the public comment period, the BLM received 25 unique written submissions containing 147 substantive comments. The Draft Supplemental EIS comments helped the BLM refine the Final Supplemental EIS and guided the development of the Proposed RMP Amendment.

Protest of the Proposed RMP

The BLM planning regulations state that any person who participated in the preparation of the RMP and has an interest that will or may be adversely affected by approval of the Proposed RMP may protest its approval. Protest of the Proposed RMP constitutes the final opportunity for administrative review of the proposed land use planning decisions prior to the BLM adopting an approved RMP. Instructions for filing a protest with the BLM Director may be found online at https://www.blm.gov/programs/planning-and-nepa/public-participation/filing-a-plan-protest and at 43 CFR 1610.5-2. All protests must be in writing and mailed to the appropriate address, as set forth in the ADDRESSES section earlier or submitted electronically through the BLM ePlanning project website as described previously. Protests submitted electronically by any means other than the ePlanning project website will be invalid unless a protest is also submitted as a hard copy. The BLM will render a written decision on each protest. The Director's protest decision shall be the final decision of the Department of the Interior. Responses to protest issues will be compiled and documented in a Protest Resolution Report made available following the protest resolution online at: https://www.blm.gov/programs/planning-and-nepa/public-participation/protest-resolution-reports. After resolution of protests, the BLM will issue a Record of Decision and Approved RMP.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Andrew Archuleta,
State Director.

[FR Doc. 2024-10792 Filed 5-16-24; 8:45 am]

BILLING CODE 4331-20-P